FARM CREDIT ADMINISTRATION

12 CFR Part 614

RIN 3052-AC92

Amortization Limits

AGENCY: Farm Credit Administration.

ACTION: Notification of effective date.

SUMMARY: The Farm Credit Administration (FCA or we) is repealing the regulatory requirement that production credit associations (PCAs) amortize their loans in 15 years or less, while requiring Farm Credit System (FCS or System) associations to address amortization through their credit underwriting standards and internal controls. In accordance with the law, the effective date of the rule is no earlier than 30 days from the date of publication in the Federal Register during which either or both Houses of Congress are in session.

DATES: The regulation amending 12 CFR part 614 published on September 28, 2020 (85 FR 60691) is effective on November 19, 2020.

FOR FURTHER INFORMATION CONTACT:

Technical information: Lori Markowitz, Senior Policy Analyst, Office of Regulatory Policy, (703) 883-4487, TTY (703) 883-4056, markowitzl@fca.gov.

Legal information: Richard A. Katz, Senior Counsel, Office of General Counsel, (703) 883-4020, TTY (703) 883-4056, katzr@fca.gov.

SUPPLEMENTARY INFORMATION: On September 28, 2020, FCA issued a final rule to repeal regulatory provisions that impose amortization limits on PCA loans; and require associations that amortize loans over a period of time that is longer than the term to maturity to address loan amortization in their credit underwriting standards and internal controls.

In accordance with 12 U.S.C. 2252(c)(1), the effective date of the rule is no earlier than 30 days from the date of publication in the Federal Register during which either or both Houses of Congress are in session. Based on the records of the sessions of Congress, the effective date of the regulations is November 19, 2020.

Dated: November 30, 2020.
Dale Aultman,
Secretary, Farm Credit Administration Board.

[FR Doc. 2020-26619 Filed 12-18-20; 8:45 am]

BILLING CODE 6705-01-P